DEPARTMENT OF ENERGY

Federal Energy Regulatory Commission

Notice of Application for Amendment of License and Soliciting Comments, Motions To Intervene, and Protests

April 11, 2005.

Take notice that the following application has been filed with the Commission and is available for public inspection:

a. Application Type: Amendment of License.

b. Project No: 2004-176.

c. Date filed: March 23, 2005.

d. Applicant: City of Holyoke Gas & Electric Company.

e. Name of Project: Holyoke Hydroelectric Project.

f. Location: The project is located on the Connecticut River, in Hampden, Hampshire, and Franklin Counties, Massachusetts.

g. Filed Pursuant to: License Article 418; Federal Power Act, 16 U.S.C. 791(a)-825(r).

h. Applicant Contact: Paul Ducheney, 66 Suffolk St., Holyoke, MA 01040, (413) 536-9340.

i. FERC Contact: Any questions on this notice should be addressed to Hillary Berlin at (202) 502-8915, or e-mail address: hillary.berlin@frec.gov.

j. Deadline for filing comments and or motions: May 9, 2005.

All documents (original and eight copies) should be filed with: Ms. Magalie R. Salas, Secretary, Federal Energy Regulatory Commission, 888 First Street, NE., Washington, DC 20426. Please include the project number (P-2004-176) on any comments or motions filed. Comments, protests, and interventions may be filed electronically via the internet in lieu of paper. See, 18 CFR 385.2001(a)(1)(iii) and the instructions on the Commission's Web site under the “e-Filing” link. The Commission strongly encourages e-filings.

k. Description of Application: The licensee filed an application to amend article 418 of the license and the Comprehensive Recreation and Land Management Plan. Specifically, the licensee proposes to provide a conservation restriction on 101.5 acres of lands in the Bachelor Brook/Stony Brook natural area. The licensee also proposes to include 62 acres of the parcel within the project boundary.

l. Location of Application: The filing is available for review at the Commission in the Public Reference Room, located at 888 First Street, NE., Room 2A, Washington, DC 20426, or may be viewed on the Commission's Web site at http://www.ferc.gov using the “eLibrary” link. Enter the docket number excluding the last three digits in the docket number field to access the document. For assistance, please contact FERC Online support at FERCOnlineSupport@ferc.gov or toll free (866) 208-3676 or TTY, contact (202) 502-8659.

m. Individuals desiring to be included on the Commission's mailing list should so indicate by writing to the Secretary of the Commission.

n. Comments, Protests, or Motions To Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E5-1825 Filed 4-18-05; 8:45 am]

BILLING CODE 6717-01-P